COMMITTEE FOR PURCHASE FROM PEOPLE WHO ARE BLIND OR SEVERELY DISABLED

Procurement List: Proposed Additions

AGENCY: Committee for Purchase from People Who Are Blind or Severely Disabled.

ACTION: Proposed additions to Procurement List.

SUMMARY: The Committee is proposing to add to the Procurement List services to be furnished by nonprofit agencies employing persons who are blind or have other severe disabilities.

Comments Must Be Received on or Before: September 8, 2002.

ADDRESS: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, the entities of the Federal Government identified in the notice for each service will be required to procure the services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited.

Commenters should identify the statement(s) underlying the certification on which they are providing additional information.

The following services are proposed for addition to Procurement List for production by the nonprofit agencies listed:

Services

Service Type/Location: Carwash Service, Border Patrol South, San Diego, California. Brown Field Border Patrol Station, Britannia Commerce Court, San Diego, California. Campo Border Patrol Station, Campo, California. El Cajon Border Patrol Station, El Cajon, California. Imperial Beach Border Patrol Station, San Diego, California. Temecula Border Patrol Station, Temecula, California.

NPA: Association for Retarded Citizens—San Diego, San Diego, California.

Contract Activity: Immigration and Naturalization Service, DOJ.

Service Type/Location: Janitorial & Related Services, Social Security Administration, Southeastern Program Service Center, Birmingham, Alabama.

NPA: Alabama Goodwill Industries, Inc., Birmingham, Alabama.

Contract Activity: Social Security Administration, Baltimore, Maryland.

Service Type/Location: Miscellaneous Support Services, Central Arkansas Veterans Healthcare System, Little Rock, Arkansas.

NPA: Pathfinder Schools, Inc., Jacksonville, Arkansas.

Contract Activity: Veterans Affairs Medical Center, North Little Rock, Arkansas.

Sheryl D. Kennerly,
Director, Information Management.

[FR Doc. 02-20212 Filed 8-8-02; 8:45 am]

BILLING CODE 6353-01-P